DEPARTMENT OF HOMELAND SECURITY

Coast Guard

46 CFR Part 11

[Docket No. USCG-2021-0097]

RIN 1625-AC75

Electronic Submission of Mariner Course Completion Data; Corrections

AGENCY: Coast Guard, Department of Homeland Security (DHS).

ACTION: Correcting amendment.

SUMMARY: This final rule amends the Coast Guard's mariner credentialing regulations by correcting inadvertent errors made within the November 2024 final rule. Within the 2024 final rule, the Coast Guard unintentionally deleted two existing paragraphs from the Code of Federal Regulation (CFR) and accidently reverted language in other existing paragraphs to previous versions. This correcting amendment reverts the language and adds those paragraphs back into the CFR as they appeared before the accidental deletion, and as edited by subsequent regulatory changes. These corrections do not create, remove, or modify any obligation under these regulations.

DATES: Effective June 6, 2025.

FOR FURTHER INFORMATION CONTACT: For information about this document call or email Mr. Brian Eichelberger, Coast Guard; telephone 202-372-1450, email Brian.T.Eichelberger@uscg.mil.

SUPPLEMENTARY INFORMATION: On October 3, 2023, the Coast Guard published the “Towing Vessel Firefighting Training” final rule (88 FR 67966), which amended 46 CFR 11.201(h)(3). Specifically, that final rule added paragraphs (h)(3)(iii) and (iv), which was a deregulatory action that removed certain training requirements to qualify for a Merchant Mariner Credential (MMC) endorsement on towing vessels, and reduced costs to mariners. That rule also modified paragraph (h)(3)(ii) to clarify the eligibility for certain endorsements to use a modified basic firefighting course to meet the requirements for an MMC and added “All” to paragraphs (h)(2)(i) and 11.201(h)(3)(i) for consistency.

On November 25, 2024, the Coast Guard published a final rule titled “Electronic Submission of Mariner Course Completion Data” (89 FR 93040). In addition to establishing requirements for training providers to electronically submit mariner course completion data to the Coast Guard, the rule also updated titles for certain officer and rating endorsements on a mariner's MMC and added capitalization to endorsement titles. The final rule's amendatory instructions unintentionally deleted paragraphs (h)(3)(iii) and (iv). Specifically, amendatory instruction number 29 of that final rule (89 FR 93070) laid out the new text of paragraphs (h)(2) through (4) but unintentionally omitted the existing text within paragraphs (h)(3)(iii) and (iv). Additionally, amendatory instruction number 29 improperly reverted the language in paragraphs (h)(2)(i) and (h)(3)(i) and (ii) to previous language that existed before changes were made through the “Towing Vessel Firefighting Training” final rule. Specifically, paragraphs (h)(2)(i) and (h)(3)(i) need the word “All” added at the beginning of both paragraphs. Additionally, paragraph (h)(3)(ii) language should have continued to say, “for service on near-coastal waters” but was reverted back to “service on oceans.”

We did not publish a notice of proposed rulemaking (NPRM) before this final rule. Under 5 U.S.C. 553(b)(B), the Coast Guard finds good cause exists for not publishing an NPRM because this rule consists of only technical and editorial corrections, and these changes will have no substantive effect on the public. This technical amendment corrects mistakes incorporated into the CFR from inaccurate amendatory instructions in a recent rule. Under 5 U.S.C. 553(d)(3), the Coast Guard finds, for the same reasons, that good cause exists to make the rule effective fewer than 30 days after publication in the Federal Register.

List of Subjects in 46 CFR Part 11

Penalties, Reporting and recordkeeping requirements, Schools, Seafarers.

For the reasons discussed in the preamble, the Coast Guard corrects 46 CFR part 11 by making the following correcting amendments:

PART 11—REQUIREMENTS FOR OFFICER ENDORESEMENTS

1. The authority citation for part 11 continues to read as follows:

Authority: 14 U.S.C. 503; 31 U.S.C. 9701; 46 U.S.C. 2101, 2103, and 2110; 46 U.S.C. chapter 71; 46 U.S.C. 7502, 7505, 7701, 8903, 8904, 8906, and 70105; Executive Order 10173; DHS Delegation No. 00170.1, Revision No. 01.4. Section 11.107 is also issued under the authority of 44 U.S.C. 3507.

2. Amend § 11.201 as follows:

a. Revise paragraphs (h)(2)(i) and (h)(3)(i) and (ii); and

b. Add paragraphs (h)(3)(iii) and (iv).

The revisions and additions read as follows:

§ 11.201 General requirements for national and STCW officer endorsements.

* * * * *

(h) * * *

(2) * * *

(i) All national officer endorsements as Master or Mate on seagoing vessels of 200 GRT or more;

* * * * *

(3) * * *

(i) All officer endorsements as Master on vessels of less than 500 GT in ocean service.

(ii) All officer endorsements for Master or Mate (Pilot) of Towing Vessels for service on near-coastal waters, except Apprentice Mate of Towing Vessels.

(iii) All officer endorsements for Master or Mate (Pilot) of Towing Vessels for service on Great Lakes, except Apprentice Mate of Towing Vessels.

(iv) All officer endorsements as Master or Mate (Pilot) of Towing Vessels for service on inland waters or Western Rivers, except Apprentice Mate of Towing Vessels.

(A) The Coast Guard will accept a Coast Guard-approved modified basic firefighting course, which is the basic firefighting training described in this paragraph (h)(3) modified to only cover the equipment, fire prevention procedures, and firefighting operations required on towing vessels on inland waters or Western Rivers routes required in 46 CFR parts 140 and 142. A mariner who completes this modified basic firefighting course will be issued an endorsement that is restricted to inland waters or Western Rivers.

(B) To increase in scope to Great Lakes, near-coastal, or oceans, the applicant will be required to complete the firefighting course appropriate to the route sought.

* * * * *

Dated: June 2, 2025.
Michael T. Cunningham,
Chief, Office of Regulations and Administrative Law.

[FR Doc. 2025-10317 Filed 6-5-25; 8:45 am]

BILLING CODE 9110-04-P